DEPARTMENT OF AGRICULTURE

[Docket No. USDA-2022-0018]

Notice of Request for Approval of a New Information Collection

AGENCY: Chief Privacy Office, Information Security Center, Office of the Chief Information Security Officer, USDA.

ACTION: Notice and request for comments.

SUMMARY: In accordance with the Paperwork Reduction Act of 1995, this notice announces the intention of the Office of the Chief Information Security Officer—Information Security Center—Chief Privacy Office to request approval for a new information collection for an electronic Request and/or Consent for Privacy Records.

DATES: Comments on this notice must be received by December 23, 2022 to be assured of consideration.

ADDRESSES: Office of the Chief Information Security Officer, Information Security Center, Chief Privacy Office invites interested persons to submit comments on this notice. Comments may be submitted by one of the following methods:

• Federal eRulemaking Portal: This website provides the ability to type short comments directly into the comment field on this web page or attach a file for lengthier comments. Go to http://www.regulations.gov. Follow the on-line instructions at that site for submitting comments.

• Mail, including, etc.: Send to Docket Clerk, U.S. Department of Agriculture, Office of the Chief Information Security Officer, Information Security Center, Chief Privacy Office, 1400 Independence Avenue SW, Room 442-W, Washington, DC 20250-3700.

• Hand- or courier-delivered submittals: Deliver to U.S. Department of Agriculture, Office of the Chief Information Security Officer, Information Security Center, Chief Privacy Office, 1400 Independence Avenue SW, Room 442-W, Washington, DC 20250-3700.

You may also send comments to the Desk Officer for Agriculture, Office of Information and Regulatory Affairs, Office of Management and Budget, Washington, DC 20503.

Instructions: All items submitted by mail or electronic mail must include the Agency name and docket number, Office of the Chief Information Security Officer, Information Security Center, Chief Privacy Office. Comments received in response to this docket will be made available for public inspection and posted without change, including any personal information, to http://www.regulations.gov.

Docket: For access to background documents or comments received, go to the U.S. Department of Agriculture, Office of the Chief Information Security Officer, Information Security Center, Chief Privacy Office at 1400 Independence Avenue SW, Room 442-W, Washington, DC 20250-3700 between 8 a.m. and 4:30 p.m., Monday through Friday.

FOR FURTHER INFORMATION CONTACT: Contact Sullie Coleman, Chief Privacy Officer, Information Security Center, Office of the Chief Information Security Officer, U.S. Department of Agriculture, 1400 Independence Ave. SW, Washington, DC 20250, (202) 604-0467.

SUPPLEMENTARY INFORMATION: Title: Request and Consent Forms for Privacy Records.

OMB Number: 0503-New.

Expiration Date of Approval: Three years from approval date.

Type of Request: New information collection.

Abstract: OMB M-21-04 provides guidance for Federal agencies to modernize the processes by which individuals may request access to, and consent to the disclosure of, records protected under the Privacy Act of 1974. As required by the Creating Advanced Streamlined Electronic Services for Constituents Act of 2019 (“CASES Act”), this guidance outlines the responsibilities of agencies for accepting access and consent forms provided in a digital format from individuals who are properly identity-proofed and authenticated. The request and consent forms, hosted at www.usda.gov/privacy-policy/privacy-office, will allow individuals to electronically request privacy records from the USDA. Information collected in this form will allow the USDA to locate any privacy records and submit to the identity-proofed requestor.

Estimate of Burden: Public reporting burden for this collection of information is estimated to average 0.8 hours per response.

Type of Respondents: Individuals.

Estimated Number of Respondents: 300.

Estimated Number of Responses: 600.

Estimated Number of Responses per Respondent: 2.

Estimated Total Annual Burden on Respondents: 100 hours.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to U.S. Department of Agriculture, Office of the Chief Information Security Officer, Information Security Center, Chief Privacy Office. All comments received will be available for public inspection during regular business hours at the same address.

All responses to this notice will be summarized and included in the request for OMB approval. All comments will become a matter of public record.

Sullie Coleman,
Chief Privacy Officer, Office of the Chief Information Security Officer, Information Security Center, Chief Privacy Office.

[FR Doc. 2022-23072 Filed 10-21-22; 8:45 am]

BILLING CODE 3410-18-P